DEPARTMENT OF COMMERCE

International Trade Administration

Renewal of the United States Manufacturing Council

AGENCY: International Trade Administration, U.S. Department of Commerce.

ACTION: Notice of charter renewal and recruitment.

SUMMARY: On March 22, 2024, the charter of the United States Manufacturing Council (Council) was renewed for a two-year period, ending March 22, 2026. The Council is a Federal advisory committee under the Federal Advisory Committee Act, as amended.

ADDRESSES: For information on the Council charter renewal, please visit: https://www.facadatabase.gov/FACA/s/FACACommittee/a10t0000001gzmbAAA/com000200.

FOR FURTHER INFORMATION CONTACT: Jaron Bass—telephone: 202-839-2357, email: Jaron.Bass@trade.gov or Cornelius Gyamfi—telephone: 202-839-4372, email: Cornelius.Gyamfi@trade.gov.

Dated: May 29, 2024.
Jaron Bass,
Designated Federal Officer, Office of Transportation and Machinery.

[FR Doc. 2024-12156 Filed 6-3-24; 8:45 am]

BILLING CODE 3510-DR-P